GENERAL SERVICES ADMINISTRATION

[Notice-PBS-2012-05; Docket 2012-0002; Sequence 16]

Notice Pursuant to Executive Order 12600 of Receipt of Freedom of Information Act (FOIA); Requests for Real Property Lease Documents From GSA Leases With Private Sector Landlords

AGENCY: General Services Administration (GSA).

ACTION: Notice.

SUMMARY: This notice provides submitters notice pursuant to Executive Order 12600 that the GSA, Public Buildings Service, Office of Leasing has received several specific FOIA requests for certain GSA real property lease documents with private sector landlords. This notice describes typical data elements contained in these lease documents, and their exemption status under FOIA in response to these specific FOIA requests.

DATES: Comments must be received on or before August 27, 2012.

ADDRESSES: Submit comments identified by “Notice-PBS-2012-05”, by any of the following methods:

• Regulations.gov: http://www.regulations.gov.

Submit comments via the Federal eRulemaking portal by searching for “Notice-PBS-2012-05”.” Select the link “Submit a Comment” that corresponds with “Notice-PBS-2012-05.” Follow the instructions provided at the “Submit a Comment” screen. Please include your name, company name (if any), and “Notice-PBS-2012-05” on your attached document.

• Fax: (202) 501-4067.

• Mail: General Services Administration, Regulatory Secretariat (MVCB), Attn: Hada Flowers/Notice-PBS-2012-05, 1275 First Street NE., 7th Floor, Washington, DC 20417.

Instructions: Please submit comments only and cite “Notice-PBS-2012-05”, in all correspondence related to this notice. All comments received will be posted without change to http://www.regulations.gov, including any personal and/or business confidential information provided.

FOR FURTHER INFORMATION CONTACT: John D. Thomas at (202) 501-2454.

SUPPLEMENTARY INFORMATION: GSA, the nation's largest public real estate organization, provides workspace for more than 1.2 million federal workers through its Public Buildings Service. Approximately half of the employees are housed in buildings owned by the federal government and half are located in over 8,100 separate leased properties (in over 8,500 leases), including buildings, land, antenna sites, etc. across the country. In order to respond to these specific FOIA requests, GSA has identified 48 data elements that may be found in the requested lease documents. Some of these data elements are exempt from disclosure pursuant to Exemption 4 of the Freedom of information Act (FOIA), 5 U.S.C. 552(b)(4).

The following table contains a description of these data fields and their exempt status:

FOIA Review of the CCR Data Fields
Data field | Exempt status | Public comments
(1) Lease Number | Not exempt under the FOIA
(2) Lease Award Date | Not exempt under the FOIA
(3) Leased Building Address (Including City State and Zip Code) | Not exempt under the FOIA
(4) Lease Effective Date | Not exempt under the FOIA
(5) Lease Expiration Date | Not exempt under the FOIA
(6) Length of Renewal Option Term(s) | Not exempt under the FOIA
(7) Renewal Option Rental Rate | Exempt—5 U.S.C. 522(b)(4)
(8) Information on Lease termination rights | Not exempt under the FOIA
(9) Operating Cost Rate (Including Itemized Components of Operating Costs, Such as Fuel Costs, Utilities, And Janitorial Costs) | Exempt—5 U.S.C. 522(b)(4)
(10) Lease Agreement Rentable Square Feet (Rsf) | Not exempt under the FOIA
(11) Lease Agreement ANSI/BOMA Office Area Square Feet (Aboasf) | Not exempt under the FOIA
(12) Lease Structured Parking Spaces | Not exempt under the FOIA
(13) Lease Surface Parking Spaces | Not exempt under the FOIA
(14) Percentage of Occupancy | Not exempt under the FOIA
(15) Annual Rent (Including Rent Structure for Term of Lease) | Not exempt under the FOIA
(16) Lessor Name | Not exempt under the FOIA
(17) Lessor Address (including City, State, and Postal Code) | Exempt—5 U.S.C. 552(b)(6)
(18) Lessor Phone | Exempt—5 U.S.C. 552(b)(6)
(19) Lessor Fax | Exempt—5 U.S.C. 552(b)(6)
(20) Lessor Email | Exempt—5 U.S.C. 552(b)(6)
(21) Name of Person Signing Lease | Not exempt under the FOIA
(22) Name of Person Witnessing Lease Signature | Not exempt under the FOIA
(23) Payee Name | Exempt—5 U.S.C. 552(b)(4)
(24) Payee Address (including City, State, and Postal Code) | Exempt—5 U.S.C. 552(b)(4)
(25) Payee Phone | Exempt—5 U.S.C. 552(b)(4)
(26) Payee Fax | Exempt—5 U.S.C. 552(b)(4)
(27) Payee Email | Exempt—5 U.S.C. 552(b)(4)
(28) Unit Price Schedule (Including Itemized Construction Costs for Tenant Buildout Items Such as Drywall Partitioning, Electrical Outlets, Doors, Carpeting, Locks, and Cabinets) | Exempt—5 U.S.C. 522(b)(4)
(29) HVAC Overtime Rate | Not exempt under the FOIA
(30) Corporate Resolution | Exempt—5 U.S.C. 552(b)(4)
(31) Partnership Agreement | Exempt—5 U.S.C. 552(b)(4)
(32) Adjustment for Vacant Premises Rate | Not exempt under the FOIA
(33) Legal Description of Building | Not exempt under the FOIA
(34) Normal Business Hours of Building | Not exempt under the FOIA
(35) Agency Name | Exempt—5 U.S.C. 552(b)(5) and (7)
(36) Floor Plan | Exempt—5 U.S.C. 552(b)(5) and (7)
(37) Identification of Building Floors Occupied | Not exempt under the FOIA
(38) Tax Payer Identification Number | Exempt—5 U.S.C. 552(b)(6)
(39) Social Security Number | Exempt—5 U.S.C. 552(b)(6)
(40) DUNS Number | Not exempt under the FOIA
(41) DUNS+4 | Exempt—5 U.S.C. 552(b)(4)
(42) Financial Institution | Exempt—5 U.S.C. 552(b)(4)
(43) Account Number | Exempt—5 U.S.C. 552(b)(4)
(44) ABA Routing ID | Exempt—5 U.S.C. 552(b)(4)
(45) Automated Clearing House (ACH) Network U.S. Phone | Exempt—5 U.S.C. 552(b)(4)
(46) ACH Non-U.S. Phone | Exempt—5 U.S.C. 552(b)(4)
(47) ACH Fax | Exempt—5 U.S.C. 552(b)(4)
(48) ACH E-Mail | Exempt—5 U.S.C. 552(b)(4)

Dated: July 20, 2012.
John D. Thomas,
Director, Center for Lease Policy.

[FR Doc. 2012-18265 Filed 7-25-12; 8:45 am]

BILLING CODE 6820-23-P